DEPARTMENT OF ENERGY

Federal Energy Regulatory Commission

[Docket No. CP00-186-000]

Northwest Pipeline Corporation; Notice of Application

April 21, 2000.

Take notice that on April 14, 2000 Northwest Pipeline Corporation (Northwest), 295 Chipeta Way, Salt Lake City, Utah 84158, filed in Docket No. CP00-186-000, an abbreviated application, pursuant to sections 7(b) and 7(c) of the Natural Gas Act and part 157 of the Federal Energy Regulatory Commission's Regulations for an order authorizing the replacement of the existing permanent compressor unit with an upgraded mobile compressor unit at the Zillah Compressor Station on Northwest's Wenatchee Lateral in Yakima County, Washington, all as more fully set forth in the application which is on file with the Commission and open to public inspection. This filing may be viewed on the web at http://www.ferc.fed.us/online/rims.htm (call 202-208-2222 for assistance).

Specifically, Northwest proposes to upgrade the Zillah station controls and station infrastructure and to replace the existing Solar Saturn T-1000 (1,068 NEMA-rated horsepower) stationary compressor unit with one of Northwest's existing Solar Saturn T-1300 (1,343 ISO-rated horsepower) trailer-mounted turbine compressor packages. The mobile unit would be based at Zillah during the winter season to provide compression when needed for operations on the Wenatchee Lateral. During off-peak periods when not required at Zillah, the mobile unit would remain available as a temporary back-up to out of service permanent units at other locations on Northwest's system. Northwest states that the additional horsepower available with the proposed mobile unit and the more optimal staging of the mobile compressor will enhance operational and service flexibility for existing firm shippers on the Wenatchee Lateral.

The associated upgrades to appurtenant facilities, especially the station control equipment, will enhance efficiency and reliability of service at the Zillah Compressor Station. Northwest's total estimated cost for the proposed project is approximately $940,000, which Northwest proposes to be given rolled-in treatment in its next rate case.

Any person desiring to be heard or to make any protest with reference to said application should on or before May 12, 2000, file with the Federal Energy Regulatory Commission, 888 First Street NE., Washington, DC 20426, a motion to interview or protest in accordance with the requirements of the Commission's Rules of Practice and Procedure (18 CFR 385.314 and 385.214). All protests filed with the Commission will be considered by it in determining the appropriate action to be taken but will not serve to make the protestants parties to the proceeding. Any person wishing to become a party to the proceeding or to participate as a party in any hearing therein must file a motion to intervene in accordance with the Commission's Rules. Any questions regarding the application should be directed to Gary Kotter, Manager, Certificates, Northwest Pipeline Corporation, P.O. Box 58900, Salt Lake City, Utah 84158, (801) 584-7117.

A person obtaining intervenor status will be placed on the service list maintained by the Secretary of the Commission and will receive copies of all documents issued by the Commission, filed by the applicant, or filed by all other intervenors. An intervenor can file for rehearing of any Commission order and can petition for court review of any such order. However, an intervenor must serve copies of comments or any other filing it makes with the Commission to every other intervenor in the proceeding, as well as filing an original and 14 copies with the Commission. A person does not have to intervene, however, in order to have comments considered. A person, instead, may submit two copies of such comments to the Secretary of the Commission. Commenters will be placed on the Commission's environmental mailing list, will receive copies of environmental documents, and will be able to participate in meetings associated with the Commission's environmental review process. Commenters will not be required to serve copies of filed documents on all other parties. However, commenters will not receive copies of all documents filed by other parties or issued by the Commission, and will not have the right to seek rehearing or appeal the Commission's final order to a Federal court. The Commission will consider all comments and concerns equally, whether filed by commenters or those requesting intervenor status.

Take further notice that, pursuant to the authority contained in and subject to the jurisdiction conferred upon the Federal Energy Regulatory Commission by Sections 7 and 15 of the NGA and the Commission's Rules of Practice and Procedure, a hearing will be held without further notice before the Commission or its designee on this application if no motion to intervene is filed within the time required herein, if the Commission on its own review of the matter finds that the proposal is required by the public convenience and necessity. If a motion for leave to intervene is timely filed, or if the Commission on its own motion believes that a formal hearing is required, further notice of such hearing will be duly given.

Under the procedure herein provided for, unless otherwise advised it will be unnecessary for Northwest to appear or be represented at the hearing.

David P. Boergers,
Secretary.

[FR Doc. 00-10475 Filed 4-26-00; 8:45 am]

BILLING CODE 6717-01-M